ENVIRONMENTAL PROTECTION AGENCY

[EPA-HQ-OECA-2012-0681; FRL—9998-30-OMS]

Information Collection Request Submitted to OMB for Review and Approval; Comment Request; NSPS for Commercial and Industrial Solid Waste Incineration (CISWI) Units (Renewal)

AGENCY: Environmental Protection Agency (EPA).

ACTION: Notice.

SUMMARY: The Environmental Protection Agency (EPA) has submitted an information collection request (ICR), NSPS for Commercial and Industrial Solid Waste Incineration (CISWI) Units (EPA ICR Number 1926.08, OMB Control Number 2060-0450), to the Office of Management and Budget (OMB) for review and approval in accordance with the Paperwork Reduction Act. This is a proposed extension of the ICR, which is currently approved through November 30, 2019. Public comments were previously requested, via the Federal Register, on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 28, 2019.

ADDRESSES: Submit your comments, referencing Docket ID Number EPA-HQ-OECA-2012-0681, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Commercial and Industrial Solid Waste Incineration Units (aka: CISWI) (40 CFR part 60, subpart CCCC) apply to either owners or operators of a combustion device used to combust commercial and industrial waste, and that meet either of the following two criteria: (1) Began construction either on or after December 31, 1999; or (2) began either reconstruction or modification either on or after June 1, 2001. Commercial and industrial waste is a solid waste combusted in an enclosed device using controlled-flame combustion without energy recovery, which is a distinct operating unit of any commercial or industrial facility, including field-erected, modular, and custom-built incineration units operating with starved or excess air, or solid waste combusted in an air curtain incinerator without energy recovery that is a distinct operating unit of any commercial or industrial facility.

Owners and operators of affected incineration units are required to comply with reporting and record keeping requirements for the General Provisions (40 CFR part 60, subpart A), as well as for the specific requirements at 40 CFR part 60, subpart CCCC. This includes submitting initial notifications, performance tests and periodic reports and results, and maintaining records of the occurrence and duration of any malfunction in the operation of an affected facility, or any period during which the monitoring system is inoperative. These reports are used by EPA to determine compliance with these standards.

Form Numbers: None.

Respondents/affected entities: These regulations apply to owners and operators of Commercial and Industrial Solid Waste Incineration (CISWI) units that began construction either on or after December 31, 1999 or began either reconstruction or modification on or after June 1, 2001.

Respondent's obligation to respond: Mandatory (40 CFR part 60 subpart CCCC).

Estimated number of respondents: 30 (total).

Frequency of response: Semiannually and annually.

Total estimated burden: 6,520 hours (per year). Burden is defined at 5 CFR 1320.3(b).

Total estimated cost: $1,160,000 (per year), which includes $406,000 annualized capital/startup and/or operation & maintenance costs.

Changes in the Estimates: There is no change in the total estimated burden as currently identified in the OMB Inventory of Approved Burdens.

Courtney Kerwin,
Director, Regulatory Support Division.

[FR Doc. 2019-20946 Filed 9-25-19; 8:45 am]

BILLING CODE 6560-50-P